DEPARTMENT OF TRANSPORTATION

Federal Aviation Administration

14 CFR Part 71

[Docket No. FAA-2009-0405; Airspace Docket No. 09-ASW-12]

Amendment of Class D and Class E Airspace; New Orleans NAS, LA

AGENCY: Federal Aviation Administration (FAA), DOT.

ACTION: Final rule; correction.

SUMMARY: This action corrects the geographic coordinates of a final rule that was published in the Federal Register October 16, 2009, amending Class D and Class E airspace at New Orleans NAS, Alvin Callender Field, LA.

DATES: Effective December 17, 2009. The Director of the Federal Register approves this incorporation by reference action under 1 CFR Part 51, subject to the annual revision of FAA Order 7400.9 and publication of conforming amendments.

FOR FURTHER INFORMATION CONTACT: Scott Enander, Central Service Center, Operations Support Group, Federal Aviation Administration, Southwest Region, 2601 Meacham Blvd., Fort Worth, TX 76137; telephone (817) 321-7716.

SUPPLEMENTARY INFORMATION:

History

On October 16, 2009, the FAA published in the Federal Register a final rule amending Class D and Class E airspace at New Orleans NAS, Alvin Callender Field, LA (74 FR 53161, Docket No. FAA-2009-0405). Subsequent to publication, an error was discovered in the geographic coordinates for the airport's Class D and Class E airspace area. This action corrects that error. Class D and E airspace designations are published in paragraph 5000 and 6002, respectively, of FAA Order 7400.9T signed August 27, 2009, and effective September 15, 2009, which is incorporated by reference in 14 CFR Part 71.1. The Class D and Class E airspace designations listed in this document will be published subsequently in the Order.

Accordingly, pursuant to the authority delegated to me, the geographic coordinates for the Class D and Class E airspace areas at New Orleans NAS, Alvin Callender Field, LA, as published in the Federal Register October 16, 2009 (74 FR 53161), (FR Doc. E9-24626; page 53162, column 2), are corrected as follows:

§ 71.1 [Amended]

* * * * *

ASW LA D New Orleans NAS, Alvin Callender Field, LA [Corrected]

By removing “(Lat. 29°49′31″ N., long. 90°02′06″ W.) and substituting (Lat. 29°49′38″N., long. 90°01′36″ W.)

* * * * *

ASW LA E2 New Orleans NAS, Alvin Callender Field, LA [Corrected]

By removing “(Lat. 29°49′31″ N., long. 90°02′06″ W.) and substituting (Lat. 29°49′38″ N., long. 90°01′36″ W.)

* * * * *

Issued in Fort Worth, Texas, on October 30, 2009.
Anthony D. Roetzel,
Manager, Operations Support Group, ATO Central Service Center.

[FR Doc. E9-27515 Filed 11-17-09; 8:45 am]

BILLING CODE 4910-13-P